DEPARTMENT OF THE INTERIOR

Bureau of Ocean Energy Management

Outer Continental Shelf Official Protraction Diagram, Lease Maps, and Supplemental Official Outer Continental Shelf Block Diagrams

AGENCY: Bureau of Ocean Energy Management (BOEM), Interior.

ACTION: Availability of revised North American Datum of 1927 (NAD 27) Outer Continental Shelf (OCS) Official Protraction Diagram (OPD), Lease Maps, and Supplemental Official OCS Block Diagrams (SOBDs); Correction.

SUMMARY: BOEM (formerly the Bureau of Ocean Energy Management, Regulation and Enforcement) published a notice in the Federal Register (76 FR 54787) on September 2, 2011, entitled “OCS Official Protraction Diagram, Lease Maps, and Supplemental Official OCS Shelf Block Diagrams” that contained an error. This notice corrects the address of the Web site where the revised maps can be found.

FOR FURTHER INFORMATION CONTACT: Steven Textoris, Acting Chief, Leasing Division at (703) 787-1223 or via email at Steven.Textoris@boem.gov.

Correction: Copies of the revised OPD, Lease Maps, and SOBDs are available for download in .pdf format from http://www.gomr.boem.gov/homepg/pubinfo/MapsandSpatialData.html.

Dated: October 5, 2011.
L. Renee Orr,
Chief, Strategic Resources.

[FR Doc. 2011-26503 Filed 10-12-11; 8:45 am]

BILLING CODE 4310-MR-P